DEPARTMENT OF AGRICULTURE

Cooperative State Research, Education, and Extension Service

Solicitation of Input From Stakeholders Regarding the Smith-Lever 3(d) Extension Integrated Pest Management Competitive Grants Program

AGENCY: Cooperative State Research, Education, and Extension Service, USDA.

ACTION: Notice of public meeting and request for stakeholder input.

SUMMARY: Section 7403 of the Food, Conservation, and Energy Act of 2008 (Pub. L. 110-246) (FCEA) amended section 3(d) of the Smith-Lever Act (7 U.S.C. 343(d)) to provide the opportunity for 1862 and 1890 Land-Grant Institutions, including Tuskegee University and West Virginia State University to compete for section 3(d) funds. Section 7417 of FCEA also provided the University of the District of Columbia the opportunity to compete for section 3(d) funds. The Extension Integrated Pest Management Coordination and Support Program (EIPM-CS) is among the Extension programs funded under this authority. By this notice, CSREES is designated to act on behalf of the Secretary of Agriculture in soliciting public comment from interested persons regarding the future design and implementation of this program.

DATES: The public meeting will be held on Thursday, March 26, 2009, from 1:30 p.m. to 5:30 p.m. Pacific time. All comments not otherwise presented or submitted for the record at the meeting must be submitted by close of business Wednesday, April 29, 2009, to be considered.

ADDRESSES: The meeting will be held in the St. Helens Meeting Room, Doubletree Hotel Portland, 1000 N.E. Multnomah, Portland, Oregon 97232, phone—800-996-0510 (toll-free in USA); 503-281-6111 (outside USA).

You may submit comments, identified by CSREES-2008-0005, by any of the following methods:

Federal eRulemaking Portal: http://www.regulations.gov. Follow the instructions for submitting comments.

E-mail: newEIPM@csrees.usda.gov. Include CSREES-2008-0005 in the subject line of the message.

Fax: (202) 401-4888.

Mail: Paper, disk or CD-ROM submissions should be submitted to newEIPM; Plant and Animal Systems Unit, Cooperative State Research, Education, and Extension Service, U.S. Department of Agriculture; STOP 2220, 1400 Independence Avenue, SW., Washington, DC 20250-2220.

Hand Delivery/Courier: EIPM; Plant and Animal Systems Unit, Cooperative State Research, Education, and Extension Service, U.S. Department of Agriculture, Room 3472, Waterfront Centre, 800 9th Street, SW., Washington, DC 20024.

Instructions: All submissions received must include the agency name and the identifier CSREES-2008-0005. All comments received will be posted to http://www.regulations.gov, including any personal information provided.

FOR FURTHER INFORMATION CONTACT: Ms. Elizabeth Ley, (202) 401-6195 (phone), (202) 401-4888 (fax), or newEIPM@csrees.usda.gov.

SUPPLEMENTARY INFORMATION:

Additional Meeting and Comment Procedures

Because of the diversity of subjects, and to aid participants in scheduling their attendance, the following schedule is anticipated for the March 26, 2009, meeting:

1:30-2:30 p.m. Introduction to the Extension Integrated Pest Management Coordination and Support Competitive Grant Program (EIPM).

2:30-5:30 p.m. Stakeholder input on general administration of EIPM, including: Solicitation of proposals; types of projects and awards; length of awards; evaluation criteria; protocols to ensure the widest program participation; allocation of funds, including protocols to solicit and consider stakeholder input; determination of priority areas; and determination of activities to be supported. A break is scheduled for 3 p.m. to 3:30 p.m.

5:30 p.m. Adjourn

Persons wishing to present oral comments at the March 26, 2009, meeting are requested to pre-register by contacting Ms. Juli Obudzinski at (202) 401-5136, by fax at (202) 401-4888, or by e-mail to newEIPM@csrees.usda.gov. Participants may reserve one 5-minute comment period. More time may be available, depending on the number of people wishing to make a presentation and the time needed for questions following presentations. Reservations for oral comments will be confirmed on a first-come, first-served basis. All other attendees may register at the meeting. Written comments may also be submitted for the record at the meeting. All comments not presented or submitted for the record at the meeting must be received by close of business Wednesday, April 29, 2009, to be considered. All comments and the official transcript of the meeting, when they become available, may be reviewed on the CSREES Web page for six months. Participants who require a sign language interpreter or other special accommodations should contact Ms. Obudzinski as directed above.

Background and Purpose

On October 6, 2008, CSREES held a stakeholder listening session on Smith-Lever 3(d) IPM restructuring due to changes found in section 7403 of the FCEA (see http://www.csrees.usda.gov/business/reporting/stakeholder/eipm_stakeholder.html). Changes to Smith-Lever 3(d) funding include: (1) The requirement for a competitive program delivery model as opposed to a long-standing formula-based delivery model; and (2) the inclusion of 1890 Institutions and the University of the District of Columbia as eligible entities to receive 3(d) funds. The primary intent of the listening session was to gather stakeholder input on program focus and design. Prior to the listening session, National Program Leaders presented stakeholders with the following questions:

1. What should be the primary goals and objectives of the program?

2. How can CSREES funding be optimized?

3. Should there be a limit on the number of proposals that can be submitted by each eligible institution?

4. What criteria should be used in the proposal review and selection process?

5. Should regional, multi-institutional or multi-state proposals be encouraged?

6. Should proposals addressing gaps in current program coverage (organic, small farms, etc.) be given greater emphasis in the evaluative process?

7. What limits should be set on funding and project duration?

The written comment period ran from October 6 through November 15, 2008. Over 400 written comments were received. A written summary of the comments is available at http://www.csrees.usda.gov/business/reporting/stakeholder/eipm_stakeholder.html. Contained in the comments are many areas with broad agreement among stakeholders. For instance, from both verbal and written comments, it was clear that stakeholders felt the most critical issue was making the fiscal year 2009 funds available as soon as possible, which the Agency responded to by promptly issuing the EIPM-CS RFA and proceeding with the competition on a compressed schedule.

Efforts were made to incorporate suggestions from the October 6, 2008, Listening Session into the FY 2009 EIPM-CS program as allowable by law. It was felt, however, that additional input could help structure the program for future years. The March 2009, Listening Session is scheduled to assist CSREES leadership in more fully addressing stakeholder needs.

Implementation Plans

CSREES plans to consider stakeholder input received from this public meeting as well as other written comments in developing the FY 2010 program guidelines. CSREES anticipates releasing the FY 2010 Request for Applications (RFA) by mid July 2009.

Done at Washington, DC, this 17th day of March 2009.
Colien Hefferan,
Administrator, Cooperative State Research, Education, and Extension Service.

[FR Doc. E9-6193 Filed 3-20-09; 8:45 am]

BILLING CODE 3410-22-P